DEPARTMENT OF HOMELAND SECURITY

Federal Emergency Management Agency

44 CFR Part 65

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below of the modified BFEs for each community listed. These modified BFEs have been published in newspapers of local circulation and ninety (90) days have elapsed since that publication. The Mitigation Division Director of FEMA resolved any appeals resulting from this notification.

The modified BFEs are not listed for each community in this notice. However, this final rule includes the address of the Chief Executive Officer of the community where the modified BFEs determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
California: San Diego (FEMA Docket No.: B-1001 | City of San Diego (08-09-1015P) | July 10, 2008; July 17, 2008; San Diego Transcript | The Honorable Jerry Sanders, Mayor, City of San Diego, 202 C Street, 11th Floor, San Diego, CA 92101 | June 30, 2008 | 060295
Colorado: Arapahoe (FEMA Docket No.: B-1001) | City of Cherry Hills Village (08-08-0414P) | July 4, 2008; July 11, 2008; The Englewood Herald | The Honorable Mike Wozniak, Mayor, City of Cherry Hills Village, 2450 East Quincy Avenue, Cherry Hills Village, CO 80113 | November 11, 2008 | 080013
Florida:
Charlotte (FEMA Docket No.: B-1001) | City of Punta Gorda (08-04-4040P) | July 17, 2008; July 24, 2008; Charlotte Sun | The Honorable Larry Friedman, Mayor, City of Punta Gorda, 326 West Marion Avenue, Punta Gorda, FL 33950 | June 30, 2008 | 120062
Monroe (FEMA Docket No.: B-1001) | Unincorporated areas of Monroe County (08-04-0421P) | July 10, 2008; July 17, 2008; Key West Citizen | The Honorable Mario DiGennaro, Mayor, Monroe County, Florida Keys Marathon Airport, 9400 Overseas Highway, Suite 210, Marathon, FL 33050 | June 30, 2008 | 125129
Monroe (FEMA Docket No.: B-1001) | Unincorporated areas of Monroe County (08-04-3795P) | July 10, 2008; July 17, 2008; Key West Citizen | The Honorable Mario DiGennaro, Mayor, Monroe County, Florida Keys Marathon Airport, 9400 Overseas Highway, Suite 210, Marathon, FL 33050 | June 30, 2008 | 125129
Sumter (FEMA Docket No.: B-1001) | City of Wildwood (08-04-0921P) | July 17, 2008; July 24, 2008; Sumter County Times | The Honorable Ed Wolf, Mayor, City of Wildwood ,100 North Main Street, Wildwood, FL 34785 | June 30, 2008 | 120299
Kansas: Johnson (FEMA Docket No.: B-1001) | City of Overland Park (08-07-0908P) | July 9, 2008; July 16, 2008; The Overland Park Sun | The Honorable Carl R. Gerlach, Mayor, City of Overland Park, 10084 Hemlock Drive, Overland Park, KS 66212 | June 30, 2008 | 200174
Michigan: Macomb (FEMA Docket No.: B-1001) | Township of Macomb (08-05-1867P) | July 16, 2008; July 23, 2008; The Macomb Daily and Daily Tribune | The Honorable John D. Brennan, Township Supervisor, Township of Macomb, 54111 Broughton Road, Macomb, MI 48042 | July 2, 2008 | 260445
Mississippi: DeSoto (FEMA Docket No.: B-1001) | City of Olive Branch (08-04-2647P) | July 31, 2008; August 7, 2008; DeSoto Times Today | The Honorable Samuel P. Rikard, Mayor, City of Olive Branch, 9200 Pigeon Roost Road, Olive Branch, MS 38654 | July 18, 2008 | 280286
Missouri:
St. Charles (FEMA Docket No.: B-7797) | Unincorporated areas of St. Charles County (08-07-0068P) | June 25, 2008; July 2, 2008; St. Charles Journal | The Honorable Steve Ehlmann, County Executive, St. Charles County, St. Charles County Courthouse, 100 North Third Street, St. Charles, MO 63301 | October 30, 2008 | 290315
St. Charles (FEMA Docket No.: B-7797) | City of St. Peters (08-07-0068P) | June 25, 2008; July 2, 2008; St. Charles Journal | The Honorable Len Pagano, Mayor, City of St. Peters, One St. Peters Centre Boulevard, St. Peters, MO 63376 | October 30, 2008 | 290319
Nevada: Clark (FEMA Docket No.: B-7797) | Unincorporated areas of Clark County (07-09-1612P) | July 8, 2008; July 15, 2008; Las Vegas Review-Journal | The Honorable Rory Reid, Chair, Clark County Board of Commissioners, 500 South Grand Central Parkway, Las Vegas, NV 89106 | November 12, 2008 | 320003
New York:
New York (FEMA Docket No.: B-1001) | City of New York (08-02-0948P) | July 17, 2008; July 24, 2008; New York Times | The Honorable Michael R. Bloomberg, Mayor, City of New York, One Centre Street, New York, NY 10007 | September 29, 2008 | 360497
Rockland (FEMA Docket No.: B-7788) | Town of Clarkstown (08-02-0127P) | May 22, 2008; May 29, 2008; Rockland County Times | The Honorable Alexander J. Gromack, Supervisor, Town of Clarkstown, Ten Maple Avenue, New City, NY 10956 | November 18, 2008 | 360679
North Carolina: Onslow (FEMA Docket No.: B-7793) | City of Jacksonville (08-04-0469P) | June 13, 2008; June 20, 2008; The Daily News | The Honorable Sammy Phillips, Mayor, City of Jacksonville, P.O. Box 128, Jacksonville, NC 28541 | June 6, 2008 | 370178
Oklahoma:
Oklahoma (FEMA Docket No.: B-1001) | City of Edmond (08-06-0227P) | July 16, 2008; July 23, 2008; The Edmond Sun | The Honorable Daniel R O'Neil, Mayor, City of Edmond, P.O. Box 2970, Edmond, OK 73083 | July 30, 2008 | 400252
Tulsa (FEMA Docket No.: B-1001) | City of Tulsa (08-06-1820P) | June 26, 2008; July 3, 2008; Tulsa World | The Honorable Kathryn L. Taylor, Mayor, City of Tulsa, 200 Civic Center, Tulsa, OK 74103 | October 31, 2008 | 405381
Tulsa (FEMA Docket No.: B-1008) | City of Tulsa (08-06-1865P) | July 31, 2008; August 7, 2008; Tulsa World | The Honorable Kathryn L. Taylor, Mayor, City of Tulsa, 200 Civic Center, Tulsa, OK 74103 | July 17, 2008 | 405381
South Dakota: Pennington (FEMA Docket No.: B-1001) | City of Rapid City (08-08-0211P) | June 25, 2008; July 2, 2008; Hill City Prevailer-News | The Honorable Alan Hanks, Mayor, City of Rapid City, 300 Sixth Street, Rapid City, SD 57701 | October 30, 2008 | 465420
Texas:
Bexar (FEMA Docket No.: B-7797) | City of San Antonio (07-06-0823P) | June 26, 2008; July 3, 2008; San Antonio Express News | The Honorable Phil Hardberger, Mayor, City of San Antonio, P.O. Box 839966, San Antonio, TX 78283 | October 31, 2008 | 480045
Bexar (FEMA Docket No.: B-1015) | City of San Antonio (07-06-0824P) | June 26, 2008; July 3, 2008; San Antonio Express News | The Honorable Phil Hardberger, Mayor, City of San Antonio, P.O. Box 839966, San Antonio, TX 78283 | June 19, 2008 | 480045
Collin (FEMA Docket No.: B-7797) | City of McKinney (07-06-1407P) | June 26, 2008; July 3, 2008; McKinney Courier Gazette | The Honorable Bill Whitfield, Mayor, City of McKinney, 222 North Tennessee Street, McKinney, TX 75069 | October 31, 2008 | 480135
Harris (FEMA Docket No.: B-7797) | Unincorporated areas of Harris County (07-06-2077P) | July 2, 2008; July 9, 2008; Houston Chronicle | The Honorable Ed Emmett, Harris County Judge, 1001 Preston Street, Suite 911, Houston, TX 77002 | October 30, 2008 | 480287
Tarrant (FEMA Docket No.: B-1011) | City of Euless (08-06-0770P) | April 4, 2008; April 11, 2008; Colleyville Courier | The Honorable Mary Saleh, Mayor, City of Euless, 201 North Ector Drive, Euless, TX 76039 | August 11, 2008 | 480593
Virginia: Independent City (FEMA Docket No.: B-1001) | City of Winchester (08-03-0972P) | July 3, 2008; July 10, 2008; The Winchester Star | The Honorable Elizabeth Minor, Mayor, City of Winchester, 231 East Piccadilly Street, Suite 310, Winchester, VA 22601 | October 31, 2008 | 510173
Wisconsin:
Dodge (FEMA Docket No.: B-7797) | Unincorporated areas of Dodge County (07-05-4832P) | June 19, 2008; June 26, 2008; Watertown Daily Times | The Honorable Russell E. Kottke, Chairman, Dodge County Board of Supervisors, 127 East Oak Street, Beaver Dam, WI 53039 | October 24, 2008 | 550094
Dodge (FEMA Docket No.: B-7797) | City of Watertown (07-05-4832P) | June 19, 2008; June 26, 2008; Watertown Daily Times | The Honorable Ron Krueger, Mayor, City of Watertown, P.O. Box 477, Watertown, WI 53094 | October 24, 2008 | 550107

(Catalog of Federal Domestic Assistance No. 97.022, “Flood Insurance.”)

Dated: December 5, 2008.
Michael K. Buckley,
Acting Assistant Administrator, Mitigation Directorate, Department of Homeland Security, Federal Emergency Management Agency.

[FR Doc. E8-29777 Filed 12-15-08; 8:45 am]

BILLING CODE 9110-12-P